DEPARTMENT OF COMMERCE

National Oceanic and Atmospheric Administration

[RTID 0648-XE005]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an exempted fishing permit application contains all of the required information and warrants further consideration. The exempted fishing permit would allow federally permitted fishing vessels to fish outside fishery regulations in support of exempted fishing activities proposed by the Coonamessett Farm Foundation. Regulations under the Magnuson-Stevens Fishery Conservation and Management Act require publication of this notification to provide interested parties the opportunity to comment on applications for proposed exempted fishing permits.

DATES: Comments must be received on or before June 14, 2024.

ADDRESSES: You may submit written comments by the following method:

• Email: nmfs.gar.efp@noaa.gov. Include in the subject line “Investigation of baiting practices on catch and bycatch in gillnets and design of an effective outreach program to minimize seabird bycatch”.

FOR FURTHER INFORMATION CONTACT: Anjali Bhardwaj, Fishery Management Specialist, anjali.bhardwaj@noaa.gov, 978-281-9293.

SUPPLEMENTARY INFORMATION: The applicant submitted a complete application for an exempted fishing permit (EFP) to conduct commercial fishing activities that the regulations would otherwise restrict. This EFP would exempt the participating vessels from the following Federal regulations:

Table 1—Requested Exemptions
CFR citation | Regulation | Need for exemption
50 CFR 648.11, but not to include 648.11(l)(3) | Monitoring Coverage | The three vessels participating in this EFP have limited deck space and/or life raft capacity and cannot accommodate both an observer and a project scientist. As stated in 648.11(l)(3), the participating vessels are still required to submit pre-trip notifications.

Table 2—Project Summary
Project title | Investigation of baiting practices on catch and bycatch in gillnets and design of an effective outreach program to minimize seabird bycatch.
Project start | July 1, 2024.
Project end | October 15, 2024.
Project objectives | Investigate differences in levels of shearwater bycatch during spiny dogfish sets utilizing different gillnet baiting strategies.
Project location | Georges Bank.
Number of vessels | 3.
Number of trips | 40 total, up to 15 per vessel.
Trip duration (days) | 1.
Total number of days | 20 (each trip includes 2 vessels).
Gear type(s) | Gillnet.
Number of tows or sets | 1 set per trip.
Duration of tows or sets | 1 hour.

Project Narrative

The Coonamesset Farm Foundation, Inc. (CFF) is requesting an EFP in support of a study aimed at better understanding how demersal gillnet baiting practices influence shearwater bycatch off the coast of Cape Cod. In the subject fishery, vessels harvest and process skates, and then use the skate racks to bait gillnets that are deployed to target dogfish, which can result in bycaught seabirds. This EFP would be for the first year of a 2-year study.

Under the EFP, three participating vessels would be exempt from Northeast Fishery Observer Program monitoring coverage due to limited vessel space and safety equipment needed to accommodate CFF personnel during research trips. No other exemptions are needed to perform this project. Vessels will target dogfish using 6.5-inch (16.5-centimeter) mesh gillnets set in strings consisting of 12 nets each. Of the 12 nets, half will utilize either forward baiting (baiting nets before setting) or after baiting (baiting nets after setting), and the remaining nets will not include bait. CFF intends to use retained and discarded catch weights to assess the effect that different baiting treatments have on catch. Any entangled seabird will be documented in detail. CFF intends to use cameras to quantify behavior and abundance of seabird species in the study area using cameras. The results will determine if high levels of seabird bycatch correlate with specific gillnet baiting strategies.

CFF, or contracted scientific personnel, will accompany trips under the EFP. Legal catch will be landed for sale. If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

All comments received are a part of the public record and may be posted for public viewing without change. All personal identifying information (e.g., name, address), confidential business information, or otherwise sensitive information submitted voluntarily by the sender will be publicly accessible. NMFS will accept anonymous comments (enter “anonymous” as the signature if you wish to remain anonymous).

Authority: 16 U.S.C. 1801 et seq.

Dated: May 24, 2024.
Karen H. Abrams,
Acting Director, Office of Sustainable Fisheries, National Marine Fisheries Service.

[FR Doc. 2024-11913 Filed 5-30-24; 8:45 am]

BILLING CODE 3510-22-P